NATIONAL CREDIT UNION ADMINISTRATION

Sunshine Act: Notice of Agency Meeting

TIME AND DATE: 10:00 a.m., Thursday, April 19, 2018.

PLACE: Board Room, 7th Floor, Room 7047, 1775 Duke Street (All visitors must use Diagonal Road Entrance), Alexandria, VA 22314-3428.

STATUS: Open.

MATTERS TO BE CONSIDERED: 1. NCUA's Rules and Regulations, Capital Planning and Stress Testing.

2. NCUA's Rules and Regulations, Accuracy of Advertising and Notice of Insured Status.

RECESS: 10:30 a.m.

TIME AND DATE: 10:45 a.m., Thursday, April 19, 2018.

PLACE: Board Room, 7th Floor, Room 7047, 1775 Duke Street, Alexandria, VA 22314-3428.

STATUS: Closed.

MATTERS TO BE CONSIDERED: 1. Supervisory Action. Closed pursuant to Exemptions (4), and (8).

FOR FURTHER INFORMATION CONTACT: Gerard Poliquin, Secretary of the Board, Telephone: 703-518-6304.

Gerard Poliquin,
Secretary of the Board.

[FR Doc. 2018-07996 Filed 4-12-18; 4:15 pm]

BILLING CODE 7535-01-P